DEPARTMENT OF THE INTERIOR

Minerals Management Service

Outer Continental Shelf (OCS), Scientific Committee (SC)

AGENCY: Minerals Management Service, Interior.

ACTION: Notice of Vacancies and Request for Nominations.

SUMMARY: The MMS is seeking interested and qualified individuals to serve on its OCS SC during the period of April 29, 2008 through April 28, 2010. The initial 2-year term may be renewable for up to an additional 4 years. The OCS SC is chartered under the Federal Advisory Committee Act to advise the Secretary of the Interior through the Director of the MMS on the appropriateness, feasibility, and scientific value of the OCS Environmental Studies Program (ESP) and environmental aspects of the offshore energy and marine minerals programs. The ESP, which was authorized by the OCS Lands Act as amended (Section 20), is administered by the MMS and covers a wide range of field and laboratory studies in biology, chemistry, and physical oceanography, as well as studies of the social and economic impacts of OCS energy and marine minerals development. Currently, the work is conducted through award of competitive contracts and interagency and cooperative agreements. The OCS SC reviews the relevance of the information being produced by the ESP and may recommend changes in its scope, direction, and emphasis.

The OCS SC comprises distinguished scientists in appropriate disciplines of the biological, physical, chemical, and socioeconomic sciences. Currently, the OCS SC has four vacancies in the following disciplines: Biological oceanography/marine biology; economics; and physical oceanography. The selections are based on maintaining disciplinary expertise in all areas of research, as well as geographic balance. Demonstrated knowledge of the scientific issues related to OCS oil and gas development is essential. Selections are made by the Secretary of the Interior on the basis of these factors.

Ethics Responsibilities of Members

All members will comply with applicable rules and regulations. The Department of the Interior will provide materials to those members appointed as Special Government Employees, explaining their ethical obligations with which the members should be familiar. Consistent with the ethics requirements, members will endeavor to avoid any actions that would cause the public to question the integrity of the Committee's operations, activities, or advice. The provisions of this paragraph do not affect any other statutory or regulatory ethical obligations to which a member may be subject.

Interested individuals should send a letter of interest and resume within 30 days to: Ms. Phyllis Clark, Minerals Management Service, Offshore Minerals Management, 381 Elden Street, Mail Stop 4041, Herndon, Virginia 20170. She may be reached by telephone at (703) 787-1716.

Authority: Federal Advisory Committee Act, Public Law 92-463, 5 U.S.C., Appendix I, and the Office of Management and Budget's Circular A-63, Revised.

Dated: October 12, 2007.
Chris C. Oynes,
Associate Director for Offshore Minerals Management.

[FR Doc. E7-21622 Filed 11-1-07; 8:45 am]

BILLING CODE 4310-MR-P